DEPARTMENT OF COMMERCE

National Oceanic and Atmospheric Administration

50 CFR Part 648

[Docket No. 240719-0200]

RIN 0648-BM90

Fisheries of the Northeastern United States; Northeast Multispecies Fishery; Fishing Year 2024 Recreational Management Measures

AGENCY: National Marine Fisheries Service (NMFS), National Oceanic and Atmospheric Administration (NOAA), Commerce.

ACTION: Final rule.

SUMMARY: This rule implements changes to fishing year 2024 recreational management measures for Gulf of Maine (GOM) cod and GOM haddock. The measures are necessary to ensure the recreational fishery achieves, but does not exceed, fishing year 2024 catch limits for GOM cod and GOM haddock. Recreational measures for Georges Bank (GB) cod will remain unchanged in fishing year 2024.

DATES: This rule is effective July 24, 2024.

ADDRESSES: To review the Federal Register documents referenced in this rule, you can visit: https://www.fisheries.noaa.gov/management-plan/northeast-multispecies-management-plan.

FOR FURTHER INFORMATION CONTACT: Mark Grant, Fishery Policy Analyst, (978) 281-9145.

SUPPLEMENTARY INFORMATION:

Background

Measures for the GOM

The recreational fishery for GOM cod and GOM haddock is managed under the Northeast Multispecies Fishery Management Plan (FMP). The multispecies fishing year starts on May 1 and runs through April 30 of the following calendar year. The FMP sets sub-annual catch limits (sub-ACL) for the recreational fishery each fishing year for both stocks. These sub-ACLs are a fixed proportion of the overall catch limit for each stock. The FMP also includes proactive recreational accountability measures (AM) to prevent the recreational sub-ACLs from being exceeded and reactive AMs to correct the cause, or mitigate the effects, of an overage if one occurs.

The proactive AM provision in the FMP provides a process for the Regional Administrator, in consultation with the New England Fishery Management Council (Council), to develop recreational management measures for the upcoming fishing year to ensure that the recreational sub-ACL is achieved, but not exceeded. The provisions governing this action can be found in the FMP's implementing regulations at 50 CFR 648.89(f)(3).

The 2024 recreational sub-ACL for GOM cod, established by Framework Adjustment 63 (87 FR 42375, July 15, 2022), is 192 metric tons (mt), and remains the same as the 2023 recreational sub-ACL. The 2024 recreational sub-ACL for GOM haddock, established by Framework Adjustment 66 (89 FR 35755, May 2, 2024), is 759 mt, which is a 4-percent reduction from the 2023 sub-ACL of 793 mt.

The proposed rule for this action (89 FR 43364, May 17, 2024) included information about the bio-economic model simulations that were shared with the Council, its Recreational Advisory Panel (RAP), and its Groundfish Oversight Committee (Committee). That information, and details about the Council, Committee, and RAP discussions, are not described further in this rule.

The RAP, the Committee, and the Council agreed on preferred measures and the Council formally recommended a suite of measures to NMFS on February 2, 2024. The Council recommended maintaining the GOM cod open season and 1-fish bag limit, and increasing the minimum fish size from 22 inches (55.9 centimeters (cm)) to 23 inches (58.4 cm); combined with maintaining the GOM haddock open season, increasing the minimum GOM haddock fish size from 17 inches (43.2 cm) to 18 inches (45.7 cm) for private recreational vessels, and increasing the GOM haddock bag limit from 10 fish to 15 fish for private recreational vessels. These changes make the recreational GOM haddock measures the same for all recreational vessels, rather than having different bag limits and minimum fish sizes for private vessels and for-hire vessels, as was implemented for the 2023 fishing year. The model projected that maintaining that suite of measures for GOM haddock measures would not sufficiently constrain catch to the quota. The new measures are expected to adequately constrain recreational catch of GOM cod and GOM haddock, based on the bio-economic model estimates. NMFS is implementing this rule upon our determination that the Council recommendations comply with the Magnuson-Stevens Fishery Conservation and Management Act (MSA) requirements that management measures be based in the best available science for GOM cod and GOM haddock for fishing year 2024 (table 1).

Table 1—Summary of GOM Status Quo Measures and Final 2024 Measures, With Model Estimates of Catch and the Probability of Catch Remaining Below the Sub-ACLs
| GOM haddock: For hire possession limit | GOM haddock: Private angler possession limit | GOM haddock: For hire minimum size inches (cm) | GOM haddock: Private angler minimum size inches (cm) | GOM haddock: Open season | GOM haddock: Projected catch (mt) | GOM haddock: % Simulations under haddock sub-ACL | GOM cod: Possession limit | GOM cod: Minimum size inches (cm) | GOM cod: Open season | GOM cod: Projected catch (mt) | GOM cod: % Simulations under cod sub-ACL
Status Quo Measures | 15 | 10 | 18 (45.7) | 17 (43.2) | May 1-February 28/29 and April 1-April 30 | 577.87 | 100 | 1 | 22 (55.9) | September 1-October 31 | 200.21 | 34
Final 2024 Measures | 15 |  | 18 (45.7) |  | May 1-February 28/29 and April 1-April 30 | 517.68 | 100 | 1 | 23 (58.4) | September 1-October 31 | 181.69 | 63

Measures for GB

This rule also announces that the current recreational measures for GB cod will remain in place for fishing year 2024. The Council reviewed the GB cod recreational catch and effort information provided by NMFS. This information shows that maintaining the status quo measures for GB cod would likely keep recreational catches close to the catch target of 113 mt in fishing year 2024, consistent with regulations for establishing GB cod recreational measures at 50 CFR 648.89(g).

Comments and Responses

NMFS received two comments on the proposed rule from one individual and from the Massachusetts Division of Marine Fisheries (MADMF).

Comment 1: One individual commented that the possession limits applied to for-hire vessels should be further considered and limited to eight fish per person fishing on a vessel because allowing possession of fish by adding the captain and mate to the possession limit can exceed the possession limit based on the number of paying customers.

Response: NMFS is approving the measures as proposed.

The measures in this rule are intended to allow the recreational fishery to achieve, but not exceed, the recreational sub-ACLs. The possession limit for a vessel is calculated based on the number of individuals aboard the vessel, including a vessel's captain or crew on a for-hire vessel, or non-fishing passengers on a private vessel. The bio-economic model used to analyze recreational measures accounts for potential possession by a captain or crew and includes all catch. Thus, the measures are designed to constrain catch to the limit or target, even accounting for captain or crew possession. Nevertheless, available data suggest for-hire vessels typically do not fully harvest the possession limit on every trip.

Comment 2: MADMF submitted a letter supporting the proposed measures. In particular, MADMF supported setting uniform recreational regulations for GOM haddock across all recreational fishing modes. MADMF highlighted that recreational measures that differ by mode may affect the uncertainty of catch estimates derived from the Marine Recreational Information Program.

MADMF also raised a concern regarding delays in annual revisions to recreational measures that result in implementing recreational measures after the start of the fishing year. MADMF suggested setting regulatory measures for periods of 2 to 3 years.

Response: The proposed measures are appropriate for fishing year 2024, and NMFS is implementing the measures as proposed.

NMFS will continue to work to publish a final recreational rule prior to the start of the fishing year. As noted by MADMF in its comment, analyzing recreational measures relies on updating the bio-economic model with catch data from the most recent fishing year. Those data are not available until late in the calendar year. As a result, it is challenging to develop potential measures, consult with the Council, and implement changes prior to the start of the fishing year on May 1.

The Council and its RAP could investigate alternative approaches to setting recreational measures for multiple years. The FMP sets sub-ACLs for the recreational fishery for each fishing year. These sub-ACLs have the potential to differ year to year, based on the most recent science, and static recreational measures may not be sufficient to ensure that the recreational sub-ACL is achieved, but not exceeded. However, there may be approaches to developing recreational measures that may stay in place for multiple years.

Changes From the Proposed Rule

This rule implements regulations outlined in the proposed rule, and there are no changes from the proposed measures in this final rule.

Classification

NMFS is issuing this final rule pursuant to section 305(d) of the MSA. In a previous action taken pursuant to section 304(b), the FMP was designed to specify the process for NMFS to take this action pursuant to MSA section 305(d). See 50 CFR 648.89(f)(3) and (g). The NMFS Assistant Administrator has determined that this final rule is consistent with the Northeast Multispecies FMP, the MSA, and other applicable law.

The Assistant Administrator for Fisheries finds that there is good cause under 5 U.S.C. 553(d)(3) to waive the 30-day delay in the date of effectiveness for this action. This final rule must be implemented as soon as possible to reduce the potential for overfishing and avoid regulatory confusion. The regulations governing development and implementation of these measures are designed to facilitate implementation in a timely way for annual and seasonal measures. The fishing year begins May 1 each year, but catch data necessary to update the bio-economic model is not available until late in the previous calendar year. Using the updated model to evaluate potential measures, and the public process for developing such measures, at times can result in implementing measures after May 1, as happened here. Due to timing constraints resulting from the Council-recommend measures being finalized on January 31, 2024, NMFS was unable to publish a proposed rule until May 17, 2024 (89 FR 43364). The comment period for that rule ended on June 3, 2024. NMFS required additional time to consider the comments received and develop this final rule.

Recreational measures also often include seasonal restrictions or modifications designed with timing requirements essential to meeting their conservation and management goals and objectives. A delay in the implementation of measures may result in overages or overfishing. For GOM haddock, less restrictive status quo measures for private recreational fishing vessels have been in effect since May 1, 2024, potentially increasing catch above the levels predicted in the bio-economic model, and raising the likelihood of an overage. GOM haddock is subject to overfishing and these recreational measures are part of the overall set of measures designed for commercial and recreational fishing to prevent overfishing.

Furthermore, anglers and for-hire operators who are subject to this action expect timely implementation to provide regulatory certainty, prevent overages and overfishing, and prevent adverse economic impacts that would arise from an overage. This final rule follows a process for setting yearly measures that is familiar to, and anticipated by, fishery participants. During the development of this rule, and, in particular, after the proposed rule comment period ended, state natural resource agencies sought information from NMFS about the status and timing of the implementation of these measures, because of their need to revise state measures to match Federal measures and to inform their state rulemaking processes. They regularly urged NMFS to finalize the measures as quickly as practicable.

The open season for GOM cod does not begin until September 1. As a result, there will be more than 30 days after publication of this rule before members of the recreational fishing community will be affected by the change to the minimum size for GOM cod and state resource agencies will have greater than 30 days after publication of this rule to follow their state processes for revising recreational measures.

For these reasons, a 30-day delay in the date of effectiveness for this final rule is unnecessary, impracticable, and contrary to the public interest.

The Chief Counsel for Regulation of the Department of Commerce certified to the Chief Counsel for Advocacy of the Small Business Administration during the proposed rule stage that this action would not have a significant economic impact on a substantial number of small entities. The factual basis for the certification, which was published in the proposed rule, has not changed and is not repeated here. No comments were received regarding this certification. As a result, a final regulatory flexibility analysis was not required and none was prepared.

This final rule contains no information collection requirements under the Paperwork Reduction Act of 1995.

This final rule has been determined to be not significant for purposes of Executive Order 12866.

List of Subjects in 50 CFR Part 648

Fisheries, Fishing, Reporting and recordkeeping requirements.

Dated: July 19, 2024.
Samuel D. Rauch, III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. Amend § 648.89, by revising table 1 to paragraph (b)(1) and table 2 to paragraph (c)(1)(i) to read as follows:

§ 648.89 Recreational and charter/party vessel restrictions.

* * * * *

(b) * * *

(1) * * *

Table 1 to Paragraph (b)(1)
Species | Charter/party minimum size: inches | Charter/party minimum size: cm | Private minimum size: inches | Private minimum size: cm | Maximum size: inches | Maximum size: cm
Cod:
Inside GOM Regulated Mesh Area ¹ | 23 | 58.4 | 23 | 58.4 | N/A | N/A
Outside GOM Regulated Mesh Area ¹ | 23 | 58.4 | 23 | 58.4 | N/A | N/A
Haddock:
Inside GOM Regulated Mesh Area ¹ | 18 | 45.7 | 18 | 45.7 | N/A | N/A
Outside GOM Regulated Mesh Area ¹ | 18 | 45.7 | 18 | 45.7 | N/A | N/A
Pollock | 19 | 48.3 | 19 | 48.3 | N/A | N/A
Witch Flounder (gray sole) | 14 | 35.6 | 14 | 35.6 | N/A | N/A
Yellowtail Flounder | 13 | 33.0 | 13 | 33.0 | N/A | N/A
American Plaice (dab) | 14 | 35.6 | 14 | 35.6 | N/A | N/A
Atlantic Halibut | 41 | 104.1 | 41 | 104.1 | N/A | N/A
Winter Flounder (black back) | 12 | 30.5 | 12 | 30.5 | N/A | N/A
Redfish | 9 | 22.9 | 9 | 22.9 | N/A | N/A
¹ GOM Regulated Mesh Area specified in § 648.80(a).

* * * * *

(c) * * *

(1) * * *

(i) * * *

Table 2 to Paragraph (c)(1)(i)
Stock | Open season | Possession limit | Closed season
GB Cod | September 1-April 30; May 1-31 | 5 | June 1-August 31.
GOM Cod | September 1-October 31 | 1 | May 1-August 31; November 1-April 30.
GB Haddock | All Year | Unlimited | N/A.
GOM Haddock | May 1-February 28 (or 29); April 1-30 | 15 | March 1-March 31.
GB Yellowtail Flounder | All Year | Unlimited | N/A.
SNE/MA Yellowtail Flounder | All Year | Unlimited | N/A.
CC/GOM Yellowtail Flounder | All Year | Unlimited | N/A.
American Plaice | All Year | Unlimited | N/A.
Witch Flounder | All Year | Unlimited | N/A.
GB Winter Flounder | All Year | Unlimited | N/A.
GOM Winter Flounder | All Year | Unlimited | N/A.
SNE/MA Winter Flounder | All Year | Unlimited | N/A.
Redfish | All Year | Unlimited | N/A.
White Hake | All Year | Unlimited | N/A.
Pollock | All Year | Unlimited | N/A.
Northern Windowpane Flounder | CLOSED | No retention | All Year.
Southern Windowpane Flounder | CLOSED | No retention | All Year.
Ocean Pout | CLOSED | No retention | All Year.
Atlantic Halibut | See paragraph (c)(3) of this section.
Atlantic Wolffish | CLOSED | No retention | All Year.

* * * * *

[FR Doc. 2024-16259 Filed 7-23-24; 8:45 am]

BILLING CODE 3510-22-P